DEPARTMENT OF HEALTH AND HUMAN SERVICES

Centers for Medicare & Medicaid Services

Statement of Organization, Functions, and Delegations of Authority

AGENCY: Centers for Medicare & Medicaid Services.

ACTION: Notice.

SUMMARY: The Centers for Medicare and Medicaid Services, Center for Medicaid and CHIP Services has modified its organizational structure.

SUPPLEMENTARY INFORMATION: Part F of the Statement of Organization, Functions, and Delegations of Authority for the Department of Health and Human Services, Centers for Medicare & Medicaid Services (CMS) (last amended at Federal Register, Vol. 87, No. 205, pp. 64492-64494, dated March 27, 2023) is amended to reflect the establishment of the Managed Care Group and rename the Disabled and Elderly Health Programs Group to Medicaid Benefits and Health Programs Group within the Center for Medicaid and CHIP Services (CMCS).

Part F, Section FC. 10 (Organization) is revised as follows:

Center for Medicaid and CHIP Services, Managed Care Group

Managed Care Group, Division of Managed Care Policy

Managed Care Group, Division of Managed Care Operations

Division of Managed Care Operations, Branch A through D

Center for Medicaid and CHIP Services, Medicaid Benefits and Health Programs Group

Part F, Section FC. 20 (Functions) for the new organization is as follows:

Managed Care Group

• Provides national leadership in the development and management of Medicaid program policy and operations regarding managed care programs and provides technical assistance to States and other stakeholders.

• Establishes Medicaid program policy around access, and accountability for all managed care programs regardless of authority used and including all populations (e.g., Temporary Assistance for Needy Families, dually eligible, foster care children, individuals who need long-term services and supports).

• Provides Medicaid managed care policy and operational guidance to States as well as internal and external stakeholders to ensure appropriate application of the policy.

• Provides subject matter expertise and technical support/assistance in the review, approval, and oversight of managed care in Section 1115 demonstrations.

• Supports delivery systems reform through the development and implementation of policy around state directed payments including technical assistance to states, review and approval of 438.6(c) preprints, and responding to external inquires related to the 438.6(c) approval process.

• Establishes and reviews policy and performs operations related to 1915(b) waivers and 1932(a) SPAs, including the review and approval of new managed care programs, renewals and amendments to ensure appropriate application of Medicaid managed care policy in state Medicaid programs.

• Leads reviews of state contracts and amendments with managed care organizations, prepaid inpatient health plans, prepaid ambulatory health plans, primary care case management entities, enrollment brokers and external quality review organizations to confirm that contracts and capitation rates, when applicable, satisfy federal laws and regulations and are consistent with the Federal managed care authority(ies) approved by CMS.

• Reviews at-risk capitation rates for consistency between the rate certification, the contract provisions, and the Federal managed care authority (ies) approved by CMS.

• Reviews and approves state plan amendments and capitation rates for Programs of All-Inclusive Care of the Elderly.

• Reviews States' risk mitigation strategies for consistency between the contract and the rate certification and tracks the status of risk mitigation reconciliation activities.

• Conducts readiness assessment reviews and ongoing monitoring and oversight of Medicaid managed care programs.

• Collaborates with States in their implementation of approved managed care programs.

• Serve as the policy lead and liaison with the Office of the Actuary in the review and approval of effective and efficient rate methodologies.

• The primary point of contact for policy questions on Mental Health Parity and the application of that policy in the review of documents provided by States.

Authority: 44 U.S.C. 3101.

Xavier Becerra,
Secretary of Health and Human Services.

[FR Doc. 2023-11901 Filed 6-2-23; 8:45 am]

BILLING CODE 4150-28-P